DEPARTMENT OF TRANSPORTATION

Federal Transit Administration

[FTA Docket No. FTA 2022-0002]

National Transit Database Census Reporting Clarifications

AGENCY: Federal Transit Administration, United States Department of Transportation (DOT).

ACTION: Final notice; response to comments.

SUMMARY: This notice responds to comments received and finalizes on changes to the Federal Transit Administration's (FTA) National Transit Database (NTD) reporting requirements published in the Federal Register on January 19, 2022.

DATES: FTA will implement the reporting changes in Report Year 2021.

FOR FURTHER INFORMATION CONTACT: Thomas Coleman, National Transit Database Program Manager, FTA Office of Budget and Policy, thomas.coleman@dot.gov.

SUPPLEMENTARY INFORMATION: The National Transit Database (NTD) is the Federal Transit Administration's (FTA's) primary database for statistics on the transit industry. Pursuant to 49 U.S.C. 5334(k), FTA published a notice in the Federal Register on January 19, 2022, (87 FR 2980) seeking public comment on changes to the NTD reporting requirements as they relate to Urbanized Areas. The comment period closed on February 18, 2022.

FTA received one comment. The commenter asked whether the reporting changes will apply to transit systems that have a Fiscal Year of July through June.

FTA Response: The reporting changes affect all transit systems that submit basic information (B-10) and Federal Funding Allocation (FFA-10) forms. The changes will apply to such transit systems in Report Year 2021, regardless of their individual Fiscal Year end dates.

In this notice, FTA adopts the proposed policy without change. Accordingly, transit systems must submit the B-10 and FFA-10 forms using 2010 Census data by the normal NTD annual report deadline. If the Census Bureau releases new Urbanized Area definitions prior to October 1, 2022, then transit operators must submit new B-10 and FFA-10 forms using 2020 Census data as an addendum to the annual report. Collecting this addendum based on 2020 Census data is necessary to allow FTA to meet the Urbanized Area definition found in 49 U.S.C. 5302(24) and produce apportionment data files that support the apportionment of formula funds. If the Census Bureau releases new Urbanized Area definitions on or after October 1, 2022, then FTA will not require the form addendum and will instead integrate the new urbanized area definitions into the 2022 reporting process.

To minimize the reporting burden, transit operators will not have to fill in the addendum from scratch. The addendum will pull in as much data as possible from the initial FFA-10 and B-10 forms completed using 2010 Census UZA definitions, based on unchanged or minimally changed UZA boundaries.

Nuria I. Fernandez,
Administrator.

[FR Doc. 2022-07448 Filed 4-6-22; 8:45 am]

BILLING CODE 4910-57-P